DEPARTMENT OF THE INTERIOR

Bureau of Land Management

[LLMTC03200 L51100000.GA0000 LVEME15CE53015X; NDM-107039 MO#4500079552]

Notice of Availability of the Environmental Assessment for Federal Coal Lease Application NDM-107039, McLean County, ND, Notice of Public Hearing and Request for Comment on Environmental Assessment, Maximum Economic Recovery, and Fair Market Value

AGENCY: Bureau of Land Management, Interior.

ACTION: Notice.

SUMMARY: In accordance with applicable regulations, the Bureau of Land Management (BLM), North Dakota Field Office (NDFO) is publishing this notice announcing the availability of an Environmental Assessment (EA) for the Falkirk Mining Company (Falkirk) Federal Coal Lease-By-Application (LBA) EA serial NDM-107039, for public review and comment. The BLM is also announcing that it will hold a public hearing to receive comments on the EA, Fair Market Value (FMV) for the LBA tract, and Maximum Economic Recovery (MER) of the coal resources contained in the proposed Falkirk LBA lease tract.

DATES: The public hearing will be held on January 10, 2017, from 5 p.m. to 7 p.m. Written comments must be received no later than January 26, 2017.

ADDRESSES: The public hearing will be held at the Underwood City Hall, 88 Lincoln Avenue, Underwood, ND 58576. Copies of the EA are available at the BLM North Dakota Field Office (NDFO) at the address below. The time, date, and location of the public hearing will also be announced in advance through local media outlets and through the North Dakota BLM Web site at: http://bit.ly/2hz2FS9.

You may submit written comments related to the Falkirk EA, FMV, and MER by any of the following methods:

• Email: BLM_MT_North_Dakota_Falkirk_LBA@blm.gov;

• Fax: 701-227-7701; or

• Mail: Bureau of Land Management, North Dakota Field Office, Falkirk LBA NDM-107039, Attention: Dorothy Van Oss, Geologist, 99 23rd Avenue West, Suite A, Dickinson, North Dakota 58601.

Please note “Coal Lease by Application NDM-107039” in the subject line for correspondence.

FOR FURTHER INFORMATION CONTACT: Dorothy Van Oss, Geologist; telephone (406) 233-3655 or at the address and email provided in the ADDRESSES section. Persons who use a telecommunications device for the deaf (TDD) may call the Federal Relay Service at 1-800-877-8339 to contact the above individual during normal business hours. The Service is available 24 hours a day, seven days a week, to leave a message or question for Dorothy Van Oss. You will receive a reply during normal business hours.

SUPPLEMENTARY INFORMATION: On November 13, 2013, Falkirk submitted an application to lease an approximately 320-acre tract of Federal coal located in McLean County, North Dakota. The BLM's EA analyzes and discloses the potential direct, indirect, and cumulative impacts of leasing, and subsequent mining, the proposed 320-acre coal tract. The tract contains approximately 3.4 million tons of mineable coal (1.7 million of which is Federal Coal). The tract is located approximately 1.2 miles from the town of Underwood. It underlies private surface and is described as follows:

Fifth Principal Meridian North Dakota

T. 146 N., R. 82 W., sec 10, E1/2.

The area described contains approximately 320 acres.

Through this notice the BLM is inviting the public to provide comments regarding the potential environmental impacts of the proposed action, and also to submit comments on the FMV and MER for the Falkirk tract. All public comments, whether written or oral, will receive consideration prior to the BLM offering the lease for sale. Public comments on the EA should address the environmental impacts of the proposed action. Public comments on the FMV and MER for the proposed lease tract may address, but do not necessarily have to be limited to, the following:

1. The quality and quantity of the coal resource;

2. The mining method or methods that would achieve MER of the coal, including specifications of seams to be mined, timing and rate of production, restriction of mining, and the inclusion of the tracts in an existing mining operation;

3. The price that the mined coal would bring when sold;

4. Costs, including mining and reclamation costs, of producing the coal and the anticipated timing of production;

5. The percentage rate at which anticipated income streams should be discounted, either with inflation or in the absence of inflation, in which case the anticipated rate of inflation should be given;

6. Depreciation, depletion, amortization and other tax accounting factors;

7. The value of any surface estate where held privately;

8. Documentation of the terms and conditions of recent and similar coal land transactions in the lease sale area; and

9. Any comparable sales data for similar coal lands and coal quantities.

Proprietary data marked as confidential may be submitted to the BLM as part of any public comments. Data so marked will be treated in accordance with the applicable laws and regulations governing the confidentiality of such information. A copy of the comments submitted by the public on the EA, FMV, and MER for the tract, except those portions identified as proprietary that meet one of the exemptions in the Freedom of Information Act, will be available for public inspection at the BLM, NDFO, 99 23rd Avenue West, Suite A, Dickinson, North Dakota, during regular business hours (8 a.m.-4:30 p.m.), Monday through Friday.

The proposed action announced in the notice are consistent with Secretarial Order (S.O.) 3338, which allows preparatory work, including National Environmental Policy Act and other related analysis, on already-pending applications to continue, while the BLM's programmatic review of the Federal coal program is pending. Additionally, the BLM has also determined that the lease application is not subject to the S.O.'s leasing pause because it qualifies for an exclusion under Section 6(a) of the Order based on the emergency leasing provisions of 43 CFR 3425.1-4. Falkirk's application satisfies the emergency leasing criteria because the coal covered by the application: (1) Is needed within 3 years; (2) Constitutes less than 8 years of recoverable reserves; and (3) Is needed for coal supply contracts that were signed prior to 1979. It should also be noted that when the application was originally submitted in 2013, it was submitted as an emergency application. The determination that the application is eligible for an exclusion from the S.O. means that the coal covered by the application can be offered for sale prior to the conclusion of the BLM's programmatic review.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 43 CFR 3425.3, and 3425.4

Allen Ollila,
Acting Field Manager, North Dakota.

[FR Doc. 2016-31039 Filed 12-22-16; 8:45 am]

BILLING CODE 4310-DN-P